DEPARTMENT OF STATE

[Public Notice: 10338]

E.O. 13224 Designation of Jund al-Khilafah in Tunisia, aka ISIS-Tunisia, aka ISIS-Tunisia Province, aka Soldiers of the Caliphate, aka Jund al-Khilafa, aka Jund al Khilafah, aka Jund al-Khilafah fi Tunis, aka Soldiers of the Caliphate in Tunisia, aka Tala I Jund al-Khilafah, aka Vanguards of the Soldiers of the Caliphate, aka Daesh Tunisia, aka Ajnad, as a Specially Designated Global Terrorist

Acting under the authority of and in accordance with section 1(b) of Executive Order 13224 of September 23, 2001, as amended by Executive Order 13268 of July 2, 2002, and Executive Order 13284 of January 23, 2003, I hereby determine that the person known as Jund al-Khilafah in Tunisia, also known as ISIS-Tunisia, also known as ISIS-Tunisia Province, also known as Soldiers of the Caliphate, also known as Jund al-Khilafa, also known as Jund al Khilafah, also known as Jund al-Khilafah fi Tunis, also known as Soldiers of the Caliphate in Tunisia, also known as Tala I Jund al-Khilafah, also known as Vanguards of the Soldiers of the Caliphate, also known as Daesh Tunisia, also known as Ajnad, committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: February 23, 2018.
Rex Tillerson,
Secretary of State.

[FR Doc. 2018-04157 Filed 2-28-18; 8:45 am]

BILLING CODE 4710-AD-P